DEPARTMENT OF AGRICULTURE

Natural Resources Conservation Service

Upper Deckers Creek Watershed, Preston County, WV

AGENCY: Natural Resources Conservation Service.

ACTION: Notice of Intent to Prepare an Environmental Impact Statement.

SUMMARY: Pursuant to Section 102(2)(C) of the National Environmental Policy Act of 1969; the Council on Environmental Quality Guidelines (40 CFR part 1500); and the Natural Resources Conservation Service Guidelines (7 CFR part 650); the Natural Resources Conservation Service, U. S. Department of Agriculture, gives notice that an environmental impact statement is being prepared for the Upper Deckers Creek Watershed, Preston County, West Virginia.

FOR FURTHER INFORMATION CONTACT: Kevin Wickey, State Conservationist, Natural Resources Conservation Service, 1550 Earl Core Road, Suite 200, Morgantown, West Virginia 26505. Telephone: (304) 284-7545.

SUPPLEMENTARY INFORMATION: The environmental assessment of this federally assisted action indicates that the project may cause significant local, regional or national impacts on the environment. As a result of these findings, Kevin Wickey, State Conservationist, has determined that the preparation and review of an environmental impact statement is needed for this project.

The project concerns the rehabilitation of the Upper Deckers Creek Site 1 dam and impoundment to meet current design criteria and performance standards. The Site 1 dam, located about 1.5 miles northwest of Arthurdale, WV, was constructed in 1969 as a single purpose flood control structure. Alternatives under consideration include the addition of rural raw water supply as a project purpose and increasing the reservoir volume, evaluating other raw water supply sources, raising the top of the dam elevation, flattening upstream and downstream face of the dam to improve slope stability, installing an internal drainage system in the dam, constructing a new auxiliary spillway, and constructing a new principal spillway riser structure. In addition to these structural alternatives, a no-action and a decommissioning alternative will be evaluated.

A draft environmental impact statement will be prepared and circulated for review by agencies and the public. The Natural Resources Conservation Service invites participation and consultation of agencies and individuals that have special expertise, legal jurisdiction, or interest in the preparation of the draft environmental impact statement. A meeting will be held at the Preston County Public Service District No. 1 office located on U Road in Arthurdale, WV at 1 p.m. on Wednesday, December 21, 2011, to determine the scope of the evaluation of the proposed action. Comments received, including the names and addresses of those who comment, will be considered part of the public record on this proposal. Further information on the proposed action or the scoping meeting may be obtained from Kevin Wickey, State Conservationist, at the above address or telephone (304) 284-7545).

(This activity is listed in the Catalog of Federal Domestic Assistance under No. 10.904—Watershed Protection and Flood Prevention—and is subject to the provisions of Executive Order 12372, which requires intergovernmental consultation with State and local officials.)

Dated: November 4, 2011.
Kevin Wickey,
State Conservationist.

[FR Doc. 2011-29963 Filed 11-18-11; 8:45 am]

BILLING CODE 3410-16-P